FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than May 28, 2024.

A. Federal Reserve Bank of St. Louis (Holly A. Rieser, Senior Manager), P.O. Box 442, St. Louis, Missouri 63166-2034. Comments can also be sent electronically to Comments.applications@stls.frb.org:

1. Ethel Archer Davis; Frank Archer Davis, Sr., individually and as trustee of the Frank Archer Davis, Jr. Trust, the John Leland Davis Trust, and the Minor Child Trust; William Hull Davis, Jr., individually and as trustee of the William Hull Davis, III Trust, the Grace Ann Davis Trust, the George Newman Davis Trust, and the Samuel McTyeire Davis Trust, all of Corinth, Mississippi; to form the Davis Family Control Group, a group acting in concert, to retain voting shares of Commerce Holding Corporation, and thereby indirectly retain voting shares of Commerce Bank, both of Corinth, Mississippi.

Board of Governors of the Federal Reserve System.
Michele Taylor Fennell,
Deputy Associate Secretary of the Board.

[FR Doc. 2024-10406 Filed 5-10-24; 8:45 am]

BILLING CODE P